CONSUMER PRODUCT SAFETY COMMISSION

[Docket No. CPSC-2006-0057]

Notice of Availability: Revisions to the Plan Documented in NIST Technical Note 2048: Simulation and Analysis Plan To Evaluate the Impact of CO Mitigation Requirements for Portable Generators

AGENCY: Consumer Product Safety Commission.

ACTION: Notice of availability.

SUMMARY: In July 2019, the Consumer Product Safety Commission (CPSC) announced the availability of, and sought public comment on, a document related to CPSC's efforts to address carbon monoxide poisoning hazards from portable generators: NIST Technical Note 2048: Simulation and Analysis Plan to Evaluate the Impact of CO Mitigation Requirements for Portable Generators (NIST TN 2048). The CPSC is announcing the availability of “Revisions to the Plan Documented in NIST Technical Note 2048: Simulation and Analysis Plan to Evaluate the Impact of CO Mitigation Requirements for Portable Generators,” a memorandum documenting CPSC staff's revisions to the plan in NIST TN 2048, resulting from CPSC and National Institute of Standards and Technology (NIST) staffs' review and analysis of public comments on the plan.

ADDRESSES: “Revisions to the Plan Documented in NIST Technical Note 2048: Simulation and Analysis Plan to Evaluate the Impact of CO Mitigation Requirements for Portable Generators,” is available on the CPSC website at: https://www.cpsc.gov/Research-Statistics/Injury-Statistics#portable-generators-and-engine-driven-tools. The document will also be made available through the Federal eRulemaking Portal at https://www.regulations.gov, under Docket No. CPSC-2006-0057, Supporting and Related Materials. Copies are also available from the Consumer Product Safety Commission, Division of the Secretariat, Room 820, 4330 East West Highway, Bethesda, MD 20814; telephone: 301-504-7479; email cpsc-os@cpsc.gov.

FOR FURTHER INFORMATION CONTACT: Janet Buyer, Project Manager, Directorate for Engineering Sciences, Consumer Product Safety Commission, 5 Research Place, Rockville, MD 20850; telephone: 301-987-2293; email: jbuyer@cpsc.gov.

SUPPLEMENTARY INFORMATION: The CPSC is engaged in an ongoing effort to address carbon monoxide (CO) poisonings of consumers from portable generators.¹ NIST staff and CPSC staff developed a plan that would enable CPSC staff to estimate the effectiveness of CO-mitigation requirements adopted in two voluntary standards in 2018: ANSI/PGMA G300-2018, Safety and Performance of Portable Generators (PGMA G300) and ANSI/UL 2201-2018, Carbon Monoxide (CO) Emission Rate of Portable Generators (UL 2201). PGMA G300 has requirements for a system that will shut off the generator when specific CO concentrations are present near the generator, as well as notification requirements to alert the user to the presence of CO after the generator has shut off. UL 2201 has requirements for a system that will shut off the generator when specific CO concentrations are present near the generator and a requirement for a reduced CO emission rate.

¹ On November 21, 2016, the Commission published a notice of proposed rulemaking (NPRM) to address the CO hazard associated with portable generators. (Safety Standard for Portable Generators, 81 FR 83,556).

NIST TN 2048 is intended to provide a reasonable test of how generators complying with each standard operate in a wide range of conditions. In July 2019, the Commission announced the availability of, and sought public comment on, NIST TN 2048 (84 FR 32729 (July 9, 2010)). On August 8, 2019, CPSC staff hosted a public meeting to allow interested parties to ask clarifying questions about information in NIST TN 2048, to assist the interested parties in providing their comments.² NIST TN 2048 is available on NIST's website at: http://dx.doi.org/10.6028/NIST.TN.2048, and from the Commission's Division of the Secretariat, at the location listed in the ADDRESSES section of this notice.

² U.S. Consumer Product Safety Commission Log of Meeting, dated August 8, 2019. Available online at: https://www.cpsc.gov/s3fs-public/2019-8-8%20%20Public%20Meeting%20to%20Answer%20Clarifying%20Questions%20on%20NIST%20TN%202048.pdf?wcYot3.N1c5yJ686gJjiRPNaPOteO1I8.

Four sets of comments were submitted into the docket on regulations.gov in response to the Notice of Availability of NIST TN 2048.³ The purpose of CPSC staff's memorandum, “Revisions to the Plan Documented in NIST Technical Note 2048: Simulation and Analysis Plan to Evaluate the Impact of CO Mitigation Requirements for Portable Generators,” is to document staff's revisions to NIST TN 2048 resulting from CPSC and NIST staffs' review and analysis of the comments. CPSC staff's memorandum is available at: https://www.cpsc.gov/Research-Statistics/Injury-Statistics#portable-generators-and-engine-driven-tools, at: https://www.regulations.gov, under Docket No. CPSC-2006-0057, Supporting and Related Materials, and from the Commission's Division of the Secretariat. Staff is working with NIST to execute the revised simulation plan.

³ The comments are available online at: www.regulations.gov, under docket CPSC-2006-0057.

Alberta E. Mills,
Secretary, Consumer Product Safety Commission.

[FR Doc. 2020-18497 Filed 8-21-20; 8:45 am]

BILLING CODE 6355-01-P